DEPARTMENT OF TRANSPORTATION

Federal Aviation Administration

14 CFR Part 39

[Docket No. FAA-2014-0291; Directorate Identifier 2013-NM-137-AD]

RIN 2120-AA64

Airworthiness Directives; Airbus Airplanes

AGENCY: Federal Aviation Administration (FAA), DOT.

ACTION: Notice of proposed rulemaking (NPRM).

SUMMARY: We propose to supersede Airworthiness Directive (AD) 2004-03-19, which applies to certain Airbus Model A320-111, -211, and -231 series airplanes. AD 2004-03-19 requires repetitive inspections for cracking in the transition and pick-up angles in the lower part of the center fuselage area, and corrective action if necessary. AD 2004-03-19 also provides for an optional terminating modification for the repetitive inspection requirements. Since we issued AD 2004-03-19, we have determined that the modification must be accomplished in order to address the unsafe condition. This proposed AD would also require that modification by installing washers between the transition pick-up angle and the pin nuts, and doing related investigative and corrective actions if necessary. This proposed AD would also add airplanes to the applicability. We are proposing this AD to prevent fatigue cracking in the transition and pick-up angles of the lower part of the center fuselage, which could result in reduced structural integrity of the wing-fuselage support and fuselage pressure vessel.

DATES: We must receive comments on this proposed AD by July 14, 2014.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Airbus, Airworthiness Office—EIAS, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2014-0291; or in person at the Docket Management Facility between 9 a.m. and 5 p.m., Monday through Friday, except Federal holidays. The AD docket contains this proposed AD, the regulatory evaluation, any comments received, and other information. The street address for the Docket Office (telephone 800-647-5527) is in the ADDRESSES section. Comments will be available in the AD docket shortly after receipt.

FOR FURTHER INFORMATION CONTACT: Sanjay Ralhan, Aerospace Engineer, International Branch, ANM-116, Transport Airplane Directorate, FAA, 1601 Lind Avenue SW., Renton, WA 98057-3356; telephone 425-227-1405; fax 425-227-1149.

SUPPLEMENTARY INFORMATION:

Comments Invited

We invite you to send any written relevant data, views, or arguments about this proposed AD. Send your comments to an address listed under the ADDRESSES section. Include “Docket No. FAA-2014-0291; Directorate Identifier 2013-NM-137-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On January 30, 2004, we issued AD 2004-03-19, Amendment 39-13463 (69 FR 5922, February 9, 2004). AD 2004-03-19 requires actions intended to address an unsafe condition on certain Airbus Model A320-111, -211, and -231 series airplanes. (AD 2004-03-19 superseded AD 98-12-18, Amendment 39-10573 (63 FR 31345, June 9, 1998)).

Since we issued AD 2004-03-19, Amendment 39-13463 (69 FR 5922, February 9, 2004), we have determined that the optional modification specified in AD 2004-03-19 must be accomplished in order to address the identified unsafe condition.

The European Aviation Safety Agency (EASA), which is the Technical Agent for the Member States of the European Community, has issued EASA Airworthiness Directive 2013-0137, dated July 9, 2013 (referred to after this as the Mandatory Continuing Airworthiness Information, or “the MCAI”), to correct an unsafe condition for the specified products. The MCAI states:

During the A320 fatigue test campaign, it has been determined that fatigue damage could appear on the transition and pick-up angle between Frame (FR) 35 and FR36.

This condition, if not detected and corrected, could affect the structural integrity of the aeroplane.

To address this potential unsafe condition, DGAC [Direction Générale de l'Aviation Civile] France issued AD 2002-183 [related to FAA AD 2004-03-19, Amendment 39-13463 (69 FR 5922, February 9, 2004)], to require repetitive inspections of the center fuselage pick-up angle between FR35 and FR36, below stringer 30, left hand (LH) and right hand (RH) sides, and, depending on findings, accomplishment of applicable corrective action(s).

Since that [DGAC] AD [2002-183] was issued, a modification was developed, which has been published through Airbus Service Bulletin (SB) A320-53-1027 for in-service application, introducing additional washers below the riveting, which constitutes terminating action for the repetitive inspections.

For the reasons described above, this [EASA] AD retains the requirements of DGAC France AD 2002-183, which is superseded, and requires modification of the transition and pick-up angle between FR35 and FR36.

You may examine the MCAI in the AD docket on the Internet at http://www.regulations.gov by searching for and locating Docket No. FAA-2014-0291.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Change to Applicability

We have added Airbus Model A320-212 airplanes to the applicability, (paragraph (c) of this NPRM) because these airplanes are subject to the same unsafe condition identified on Airbus Model A320-111, A320-211, and A320-231 airplanes. We have also revised the applicability language used in AD 2004-03-19, Amendment 39-13463 (69 FR 5922, February 9, 2004). This proposed AD applies to Airbus Model A320-111, -211, -212, and -231 airplanes, all manufacturer serial numbers. We have added new paragraph (n) in this proposed AD to specify that accomplishing Airbus Modification 21202 in production terminates the requirements of this AD.

Clarification of Modification Actions

The optional modification specified in paragraph (e) of AD 2004-03-19, Amendment 39-13463 (69 FR 5922, February 9, 2004), is proposed to be required in paragraph (m) of this NPRM. The modification includes rotating probe inspections for cracking of certain fastener holes and, if any cracking is found, replacement or repair of certain parts. We have included these inspections, as well as the replacement of transition angles if cracking is found in the transition angles and repair if cracking is found in the pick-up angles, in the description of the modification in paragraph (m) of this NPRM.

Repair Approvals

In many FAA transport ADs, when the service information specifies to contact the manufacturer for further instructions if certain discrepancies are found, we typically include in the AD a requirement to accomplish the action using a method approved by either the FAA or the State of Design Authority (or its delegated agent).

We have recently been notified that certain laws in other countries do not allow such delegation of authority, but some countries do recognize design approval organizations. In addition, we have become aware that some U.S. operators have used repair instructions that were previously approved by a State of Design Authority or a Design Approval Holder (DAH) as a method of compliance with this provision in FAA ADs. Frequently, in these cases, the previously approved repair instructions come from the airplane structural repair manual or the DAH repair approval statements that were not specifically developed to address the unsafe condition corrected by the AD. Using repair instructions that were not specifically approved for a particular AD creates the potential for doing repairs that were not developed to address the unsafe condition identified by the MCAI AD, the FAA AD, or the applicable service information, which could result in the unsafe condition not being fully corrected.

To prevent the use of repairs that were not specifically developed to correct the unsafe condition, certain requirements of this proposed AD would require that the repair approval specifically refer to the FAA AD. This change is intended to clarify the method of compliance and to provide operators with better visibility of repairs that are specifically developed and approved to correct the unsafe condition. In addition, we use the phrase “its delegated agent, or the DAH with State of Design Authority design organization approval, as applicable” in this proposed AD to refer to a DAH authorized to approve certain required repairs for this proposed AD.

Costs of Compliance

We estimate that this proposed AD affects 482 airplanes of U.S. registry. We estimate the following costs to comply with this proposed AD:

Estimated Costs
Action | Labor cost | Parts cost | Cost per product | Cost on U.S. operators
Inspection [retained action from AD 2004-03-19, Amendment 39-13463 (69 FR 5922, February 9, 2004)] | 9 work-hours × $85 per hour = $765 per inspection cycle | $0 | $765 per inspection cycle | $18,360 per inspection cycle (24 airplanes).
Inspection for Model A320-212 airplanes [new proposed action] | 9 work-hours × $85 per hour = $765 per inspection cycle | 0 | $765 per inspection cycle | $32,130 per inspection cycle (42 airplanes).
Terminating modification [new proposed action] | 28 work-hours × $85 per hour = $2,380 | 1,837 | $4,217 | $2,032,594.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. Amend § 39.13 by removing airworthiness directive (AD) 2004-03-19, Amendment 39-13463 (69 FR 5922, February 9, 2004), and adding the following new AD:

Airbus: Docket No. FAA-2014-0291; Directorate Identifier 2013-NM-137-AD.

(a) Comments Due Date

We must receive comments by July 14, 2014.

(b) Affected ADs

This AD supersedes AD 2004-03-19, Amendment 39-13463 (69 FR 5922, February 9, 2004).

(c) Applicability

This AD applies to Airbus Model A320-111, -211, -212, and -231 airplanes, certificated in any category, all manufacturer serial numbers.

(d) Subject

Air Transport Association (ATA) of America Code 53, Fuselage.

(e) Reason

This AD was prompted by the determination that the modification must be accomplished in order to address the unsafe condition. We are issuing this AD to prevent fatigue cracking in the transition and pick-up angles of the lower part of the center fuselage, which could result in reduced structural integrity of the wing-fuselage support and fuselage pressure vessel.

(f) Compliance

Comply with this AD within the compliance times specified, unless already done.

(g) Retained Detailed and Rotating Probe Inspections

This paragraph restates the requirements of paragraph (b) of AD 2004-03-19, Amendment 39-13463 (69 FR 5922, February 9, 2004). For Model A320-111, -211, and -231 airplanes on which the modification specified in AD 98-12-18, Amendment 39-10573 (63 FR 31345, June 9, 1998), has not been done: Do the applicable inspections specified in paragraphs (g)(1) and (g)(2) of this AD, in accordance with the Accomplishment Instructions of Airbus Service Bulletin A320-53-1028, Revision 01, dated February 12, 2002.

(1) For airplanes on which the inspections required by AD 98-12-18, Amendment 39-10573 (63 FR 31345, June 9, 1998), have been done: Within 12,000 flight cycles after accomplishment of the last inspection required by AD 98-12-18, do a detailed inspection of the transition angle and a rotating probe inspection of the pick-up angle in the lower part of the center fuselage area for cracking.

(2) For airplanes on which the inspections required by AD 98-12-18, Amendment 39-10573 (63 FR 31345, June 9, 1998), have not been done: At the later of the times specified in paragraph (g)(2)(i) or (g)(2)(ii) of this AD, do a detailed inspection of the transition angle and a rotating probe inspection of the pick-up angle in the lower part of the center fuselage area for cracking.

(i) Before the accumulation of 10,400 total flight cycles, or 24,600 total flight hours, whichever is first.

(ii) Before the accumulation of 16,000 total flight cycles, or within 3,500 flight cycles after March 15, 2004 (the effective date of AD 2004-03-19, Amendment 39-13463 (69 FR 5922, February 9, 2004), whichever is first.

(h) Retained Repetitive Inspections

This paragraph restates the requirements of paragraph (c) of AD 2004-03-19, Amendment 39-13463 (69 FR 5922, February 9, 2004). For Model A320-111, -211, and -231 airplanes: Repeat the detailed and rotating probe inspections specified in paragraphs (g)(1) and (g)(2) of this AD at intervals not to exceed 10,400 flight cycles or 24,600 flight hours, whichever is first, until the modification specified in paragraph (m) of this AD has been done.

(i) Retained Corrective Action for Paragraphs (g) and (h) of This AD

This paragraph restates the requirements of paragraph (d) of AD 2004-03-19, Amendment 39-13463 (69 FR 5922, February 9, 2004). For Model A320-111, -211, and -231 airplanes: If any cracking is found during any inspection required by paragraph (g) or (h) of this AD, prior to further flight, either repair the cracking per the Accomplishment Instructions of Airbus Service Bulletin A320-53-1028, Revision 01, dated February 12, 2002; or do the modification specified in paragraph (m) of this AD. Where Airbus Service Bulletin A320-53-1028, Revision 01, dated February 12, 2002, specifies to contact the manufacturer for repair instructions, prior to further flight, repair the cracking in accordance with a method approved by the Manager, International Branch, ANM-116 Transport Airplane Directorate, FAA; or European Aviation Safety Agency (EASA) or the Direction Générale de l'Aviation Civile (or its delegated agent). If the cracking is repaired, repeat the inspections as required by paragraph (h) of this AD.

(j) New Detailed and Rotating Probe Inspections for Model A320-212 Airplanes

For Model A320-212 airplanes on which the modification specified in Airbus Service Bulletin A320-53-1027, has not been done as of the effective date of this AD: Do the applicable inspections specified in paragraph (j)(1) or (j)(2) of this AD, in accordance with the Accomplishment Instructions of Airbus Service Bulletin A320-53-1028, Revision 01, dated February 12, 2002.

(1) For airplanes on which the inspections specified in Airbus Service Bulletin A320-53-1028 have been done as of the effective date of this AD: At the later of the times specified in paragraph (j)(1)(i) or (j)(1)(ii) of this AD, do a detailed inspection of the transition angle and a rotating probe inspection of the pick-up angle in the lower part of the center fuselage area for cracking.

(i) Within 10,400 flight cycles or 24,600 flight hours, whichever occurs first after accomplishing the most recent inspection specified in Airbus Service Bulletin A320-53-1028.

(ii) Within 90 days after the effective date of this AD.

(2) For airplanes on which the inspections specified in Airbus Service Bulletin A320-53-1028 have not been done as of the effective date of this AD: At the later of the times specified in paragraphs (j)(2)(i) and (j)(2)(ii) of this AD, do a detailed inspection of the transition angle and a rotating probe inspection of the pick-up angle in the lower part of the center fuselage area for cracking.

(i) Before the accumulation of 10,400 total flight cycles, or 24,600 total flight hours, whichever occurs first.

(ii) Within 90 days after the effective date of this AD.

(k) New Repetitive Inspections for Model A320-212 Airplanes

For Model A320-212 airplanes: Repeat the detailed and rotating probe inspections specified in paragraphs (j)(1) and (j)(2) of this AD at intervals not to exceed 10,400 flight cycles or 24,600 flight hours, whichever occurs first, until the modification specified in paragraph (m) of this AD has been done.

(l) New Corrective Action for Model A320-212 Airplanes

For Model A320-212 airplanes: If any cracking is found during any inspection required by paragraph (j) or (k) of this AD, before further flight, do the actions specified in either paragraph (l)(1) or (l)(2) of this AD.

(1) Repair the crack in accordance with the Accomplishment Instructions of Airbus Service Bulletin A320-53-1028, Revision 01, dated February 12, 2002, except where Airbus Service Bulletin A320-53-1028, Revision 01, dated February 12, 2002, specifies to contact the manufacturer, before further flight, repair using a method approved by the Manager, International Branch, ANM-116, Transport Airplane Directorate, FAA; or European Aviation Safety Agency (EASA), or its delegated agent, or the design approval holder (DAH) with EASA's design organization approval, as applicable. For a repair method to be approved, the repair approval must specifically refer to this AD. After the cracking is repaired, repeat the inspections required by paragraph (k) of this AD.

(2) Do the modification specified in paragraph (m) of this AD.

(m) New Terminating Modification for All Airplanes

For all airplanes: Before the accumulation of 40,000 flight cycles since first flight, or within 1,500 flight cycles after the effective date of this AD, whichever occurs later, but not exceeding 48,000 flight cycles since first flight, modify by doing rotating probe inspections for cracking of certain fastener holes, replacing transition angles if any cracking is found in the transition angles, repairing if any pick-up angles cracking is found, and installing washers between the transition pick-up angle and the pin nuts; in accordance with the Accomplishment Instructions of Airbus Service Bulletin A320-53-1027, Revision 03, dated February 12, 2002, except where Airbus Service Bulletin A320-53-1027, Revision 03, dated February 12, 2001, specifies to contact Airbus, before further flight, repair using a method approved by the Manager, International Branch, ANM-116, Transport Airplane Directorate, FAA; or EASA, or its delegated agent; or the DAH with EASA's design organization approval, as applicable. For a repair method to be approved, the repair approval must specifically refer to this AD. Accomplishment of this modification terminates the repetitive inspections required by paragraphs (h) and (k) of this AD.

(n) Terminating Modification

For airplanes on which Airbus Modification 21202 has been embodied in production: No actions are required by this AD.

(o) Credit for Previous Actions

(1) This paragraph provides credit for the actions required by paragraph (j) of this AD, if those actions were performed before the effective date of this AD using Airbus Service Bulletin A320-53-1028, dated March 1, 1994.

(2) This paragraph provides credit for the action specified in paragraph (m) of this AD, if that action was performed before the effective date of this AD using Airbus Service Bulletin A320-53-1027, dated March 1, 1994; Revision 1, dated September 5, 1994; or Revision 2, dated June 8, 1995.

(p) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Sanjay Ralhan, Aerospace Engineer, International Branch, ANM-116, Transport Airplane Directorate, FAA, 1601 Lind Avenue SW., Renton, WA 98057-3356; telephone 425-227-1405; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD. AMOCs approved previously in accordance with AD 2004-03-19, Amendment 39-13463 (69 FR 5922, February 9, 2004), are approved as AMOCs for the corresponding provisions of this AD.

(2) Airworthy Product: For any requirement in this AD to obtain corrective actions from a manufacturer, use these actions if they are FAA approved. Corrective actions are considered FAA-approved if they were approved by the State of Design Authority (or its delegated agent, or the DAH with a State of Design Authority's design organization approval, as applicable). You are required to ensure the product is airworthy before it is returned to service.

(q) Related Information

(1) Refer to Mandatory Continuing Airworthiness Information (MCAI) EASA Airworthiness Directive 2013-0137, dated July 9, 2013, for related information. This MCAI may be found in the AD docket on the Internet at http://www.regulations.gov by searching for and locating Docket No. FAA-2014-0291.

(2) For service information identified in this AD, contact Airbus, Airworthiness Office—EIAS, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221.

Issued in Renton, Washington, on May 15, 2014.
Michael Kaszycki,
Acting Manager, Transport Airplane Directorate, Aircraft Certification Service.

[FR Doc. 2014-12613 Filed 5-29-14; 8:45 am]

BILLING CODE 4910-13-P